POSTAL REGULATORY COMMISSION

Sunshine Act Meetings

NAME OF AGENCY: Postal Regulatory Commission.

TIME AND DATE: September 15, 2008 at 2 p.m.

PLACE: Commission conference room, 901 New York Avenue, NW., Suite 200, Washington, DC 20268-0001.

STATUS: Open.

MATTERS TO BE CONSIDERED: Fiscal year 2010 budget.

FOR FURTHER INFORMATION CONTACT: Stephen L. Sharfman, General Counsel, 202-789-6820 or stephen.sharfman@prc.gov.

Dated: September 4, 2008.
Steven W. Williams,
Secretary.

[FR Doc. E8-20935 Filed 9-4-08; 4:15 pm]

BILLING CODE 7710-FW-P